DEPARTMENT OF THE INTERIOR

National Park Service

[NPS-WASO-NRNHL-0811-8271; 2280-665]

National Register of Historic Places; Notification of Pending Nominations and Related Actions

Nominations for the following properties being considered for listing or related actions in the National Register were received by the National Park Service before August 20, 2011. Pursuant to section 60.13 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted by September 29, 2011. Before including your address, phone number, e-mail address, or other personal identifying information in your comment, you should be aware that your entire comment—including your personal identifying information—may be made publicly available at any time. While you can ask us in your comment to withhold your personal identifying information from public review, we cannot guarantee that we will be able to do so.

Patrick Andrus,
Acting Chief, National Register of Historic Places/National Historic Landmarks Program.

CALIFORNIA

Humboldt County

Chapman, John G., House, 974 10th St., Arcata, 11000713

Sacramento County

Boulevard Park (Historic Residential Suburbs in the United States, 1830-1960 MPS), Roughly bounded by B, H, 20th, 22nd & 23rd Sts., Sacramento, 11000705

NEW YORK

Niagara County

Comstock, Nathan, Jr., House (Stone Buildings of Lockport, New York MPS), 299 Old Niagara Rd., Lockport, 11000707

Rockland County

McCready, Robert W. and Mary F., House, 139 Orange Tnpk., Sloatsburg, 11000708

Rockland Road Bridge Historic District, Ferdon Ave., Rockland Rd. & S. Piermont Ave., Piermont, 11000709

Ulster County

Elliot-Buckley House, 204 Old Post Rd., Marlboro, 11000710

OHIO

Franklin County

Athletic Club of Columbus, 136 Broad St., Columbus, 11000711

PUERTO RICO

San Juan Municipality

Residencia Luis Munoz Marin, PR 877, km 0.4, San Juan, 11000712

VERMONT

Washington County

Beck and Beck Granite Shed, 30 Granite St., Barre, 11000714

VIRGINIA

Amherst County

Hanshill, 142 Leftwich Rd., Madison Heights, 11000715

WISCONSIN

Clark County

Sniteman, Charles C. and Katharyn, House, 319 Hewett St., Nellisville, 11000716

In the interest of preservation, the comment period for the following resource has been shortened to (3) three days.

INDIANA

Elkhart County

Morehouse Residential Historic District, Roughly bounded by E. Indiana, Morehouse, E. Hubbard & the W. side of Frances Aves., Elkhart, 11000706

Request for REMOVAL has been made for the following resources:

WISCONSIN

Door County

Englebert, Frank and Clara, House, 9390 Cemetery Rd., Brussels, 04000397

Price County

Bloom's Tavern, Store and House, 396 S. Avon Ave., Phillips, 85000490

[FR Doc. 2011-23418 Filed 9-13-11; 8:45 am]

BILLING CODE 4312-51-P